DEPARTMENT OF COMMERCE

National Oceanic and Atmospheric Administration

[I.D. 011402F]

North Pacific Fishery Management Council; Notice of Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings.

DATES: The meetings will be held February 4-12, 2002, in Anchorage, AK. See SUPPLEMENTARY INFORMATION for specific dates and times.

ADDRESSES: All meetings will be held at the Anchorage Hilton Hotel, 500 W. 3rd Avenue, Anchorage, AK.

Council address: North Pacific Fishery Management Council, 605 W. 4th Ave., Suite 306, Anchorage, AK 99501-2252.

FOR FURTHER INFORMATION CONTACT: Council staff, Phone 907-271-2809.

SUPPLEMENTARY INFORMATION:

Meeting Dates, Times, and Agendas

The Council's Advisory Panel will begin at 8 a.m. Monday, February 4, and continue through Friday, February 8, 2002.

The Scientific and Statistical Committee (SSC) will begin at 8 a.m. on Monday, February 4, and continue through Wednesday, February 6, 2002.

The Joint Protocol Committee for the Council and Alaska Board of Fisheries will meet from Noon until 5 p.m. on Monday, February 4, 2002.

The full Council and Board will meet from 8 a.m. until 5 p.m. on February 5, 2002.

The Council will begin its plenary session at 8 a.m. on Wednesday, February 6, continuing through Tuesday, February 12, 2002.

All meetings are open to the public except executive sessions. An Executive Session of the Council has been scheduled during the lunch hour on Wednesday, February 6, 2002 to discuss personnel issues.

Joint Board/Council Meeting: The agenda will include the following issues of mutual interest to the Board and Council:

Council Plenary Session: The agenda for the Council's plenary session will include the following issues. The Council may take appropriate action on any of the issues identified.

1. Reports:

(a) Executive Director's Report.

(b) State Fisheries Report by Alaska Dept. of Fish and Game.

(c) National Marine Fisheries Service Management Report.

(d)Enforcement and Surveillance reports by NMFS and the U.S. Coast Guard.

(e) Annual meeting report from the International Pacific Halibut Commission.

(f) Presentation of results of sea lion research on eastside of Kodiak Island.

(g) Status report on an amendment to the Community Development Quota Program policies.

(h) World Wildlife Fund report on Russian Far East fisheries.

2. Programmatic Groundfish Supplementary Environmental Impact Statement (SEIS): The Council will approve alternatives for analysis and provide direction to the Ecosystem Committee regarding involvement in the process.

3. Essential Fish Habitat: Receive a progress report and discuss alternatives for mitigating fisheries impact; provide direction to staff.

4. Halibut/Sablefish Individual Fishing Quota Program: Review Committee report: review of an amendment of alternatives for community purchase of quota shares. Provide direction to staff.

5. Gulf of Alaska Groundfish Rationalization: Review staff discussion paper and provide direction.

6. Bering Sea/Aleutian Island Crab Rationalization:

(a) Initial review of amendment analysis.

(b) Discuss the environmental impact statement for the Bering Sea/Aleutian Islands King and Tanner Crab Fishery Management Plan and potential alternatives. Provide direction to staff.

7. American Fisheries Act (AFA):

(a) Review final pollock co-op reports for 2001.

(b) Review final AFA report to Congress.

(c) Initial review of an amendment to relax single geographic location restrictions for floating processors (if analysis is available).

8. Observer Program:

(a) Review Committee report.

(b) Initial review of regulatory amendment package.

(c)Discuss status of long-term program adjustments.

9. Discuss amendment for additional Steller Sea Lion protection measures and provide direction to staff.

10. Salmon Bycatch:

(a) Review general information on impacts of Steller sea lion protection measures on salmon bycatch.

(b) Review discussion paper on Gulf of Alaska salmon bycatch, if available.

11. Review research priorities.

12. Groundfish Management:

(a) Develop problem statement and provide staff direction for differential gear impact analysis.

(b) Review information and discussion paper on license limitation recency issues.

(c) Discuss independent review of the Council's F40 harvest strategy.

(d) Review discussion paper on disclosure of catch and bycatch information (if paper available).

13. Staff Tasking:

(a) Review existing tasking and provide direction as necessary.

(b) Review NMFS initiative for mandatory data collection.

Scientific and Statistical Committee: The SSC agenda will include the following issues:

1. Groundfish SEIS: (Item #2 on the Council agenda)

2. Essential Fish Habitat (Item #3 on the Council agenda)

3. Bering Sea and Aleutian Islands Crab Rationalization (Item #6 on the Council agenda)

4. Observer Program Issues (Item #8 on the Council agenda)

5. Research priorities (#11 on the Council agenda)

6. Independent review of the Council's F40 harvest strategy (Item #12(c) on the Council agenda)

Advisory Panel: The Advisory Panel will address the same agenda issues as the Council, with the exception of the Reports under Items 1 and 11 of the Council agenda.

Although other issues not contained in this agenda may come before this Council for discussion, in accordance with the Magnuson-Stevens Fishery Conservation and Management Act those issues may not be the subject of formal Council action during the meeting. Council action will be restricted to those issues specifically identified in the agenda listed in this notice.

Special Accommodations

These meetings are physically accessible to people with disabilities. Requests for sign language interpretation or other auxiliary aids should be directed to Helen Allen at 907-271-2809 at least 7 working days prior to the meeting date.

Dated: January 16, 2002.
Richard W. Surdi,
Acting Director, Office of Sustainable Fisheries, National Marine Fisheries Service.

[FR Doc. 02-1532 Filed 1-18-02; 8:45 am]

BILLING CODE 3510-22-S